SECURITIES AND EXCHANGE COMMISSION

[Release No. 35-27495]

Filings Under the Public Utility Holding Company Act of 1935, as Amended (“Act”)

March 8, 2002.

Notice is hereby given that the following filing(s) has/have been made with the Commission pursuant to provisions of the Act and rules promulgated under the Act. All interested persons are referred to the application(s) and/or declaration(s) for complete statements of the proposed transaction(s) summarized below. The application(s) and/or declaration(s) and any amendment(s) is/are available for public inspection through the Commission's Branch of Public Reference.

Interested persons wishing to comment or request a hearing on the application(s) and/or declaration(s) should submit their views in writing by April 2, 2002, to the Secretary, Securities and Exchange Commission, Washington, DC 20549-0609, and serve a copy on the relevant application(s) and/or declarant(s) at the address(es) specified below. Proof of service (by affidavit or, in the case of an attorney at law, by certificate) should be filed with the request. Any request for hearing should identify specifically the issues of facts or law that are disputed. A person who so requests will be notified of any hearing, if ordered, and will receive a copy of any notice or order issued in the matter. After April 2, 2002, the application(s) and/or declaration(s), as filed or as amended, may be granted and/or permitted to become effective.

Allegheny Energy, Inc., et al. (70-9897)

Allegheny Energy, Inc. (“Allegheny”), a registered holding company, Allegheny Ventures, Inc. (“Ventures”), a direct wholly owned nonutility subsidiary company of Allegheny, both located at 10435 Downsville Pike, Hagerstown, Maryland 21740; and Allegheny Energy Supply Company, L.L.C. (“AE Supply”), 4350 Northern Pike, Monroeville, Pennsylvania 15146-2841, a direct wholly owned generating subsidiary company except by order under section 3(a)(2) of the Act and direct held by Allegheny; (collectively, “Applicants”) have filed a post-effective amendment under sections 6(a) and 7, of the Act, and rules 53 and 54 under the Act.

By order dated December 31, 2001 (HCAR No. 27486) (“Order”), the Commission authorized, among other things, through July 31, 2005 (“Authorization Period”): (1) Allegheny to issue up to $1 billion in equity securities ¹ and (2) Allegheny and/or AE Supply to issue short-term debt ² and long-term debt in an aggregate amount up to $4 billion. Applicants now seek to amend the authorization granted in the Order.

¹ Specifically, the Order stated, “Allegheny may issue common stock or options, warrants or other stock purchase rights exercisable for common stock in public or privately negotiated transactions for cash or as consideration for the equity securities or assets of other companies, provided that the acquisition of securities of the equity securities or assets has been authorized in this proceeding, a separate proceeding, or is exempt by the Act or the rules under the Act.”

² The Order generally provided that short-term debt will not have a maturity of less than one day and not more than 364 days. The Order also provided that notes payable to banks would have a maturity of not more than 270 days after the date of issuance or renewal (“Notes”).

Specifically, Applicants now make the following requests:

(1) Allegheny to issue up to an aggregate of $1 billion at any one time outstanding through the Authorization Period to issue and sell, common stock or options, warrants or other stock purchase rights exercisable for common stock or contracts to purchase common stock in public or privately negotiated for cash or as consideration for the acquisition of equity securities or assets of other companies, provided in section 32 and 33 of the Act and under rule 58; and

(2) Allegheny and AE Supply seek to modify the Order to extend the maturity of the Notes from 270 days to 364 days.

For the Commission, by the Division of Investment Management, pursuant to delegated authority.
J. Lynn Taylor,
Assistant Secretary.

[FR Doc. 02-6103 Filed 3-13-02; 8:45 am]

BILLING CODE 8010-01-P